ENVIRONMENTAL PROTECTION AGENCY

40 CFR Part 9

[EPA-HQ-OPPT-2021-0227; FRL-8985-03-OCSPP]

RIN 2070-AB27

Significant New Use Rules on Certain Chemical Substances (21-2.F); Correction

AGENCY: Environmental Protection Agency (EPA).

ACTION: Final rule; correction.

SUMMARY: EPA issued a final rule in the Federal Register of Tuesday, April 11, 2023, concerning significant new use rules (SNURs) under the Toxic Substances Control Act (TSCA) for chemical substances that were the subject of premanufacture notices (PMNs). This document corrects a typographical error in the amendatory instructions.

DATES: This correction is effective June 12, 2023.

FOR FURTHER INFORMATION CONTACT: William Wysong, New Chemicals Division (7405M), Office of Pollution Prevention and Toxics, Environmental Protection Agency, 1200 Pennsylvania Ave. NW, Washington, DC 20460-0001; telephone number: (202) 564-4163; email address: wysong.william@epa.gov.

SUPPLEMENTARY INFORMATION: In FR Doc. 2023-07458 appearing on page 21480 in the Federal Register of Tuesday, April 11, 2023 (88 FR 21480; FRL-8985-02-OCSPP), the following correction is made:

§ 9.1 [Corrected]

On page 21484, in the third column, in part 9, in amendment 2, the instruction “In § 9.1, amend the table by adding entries for §§ 721.11604 through 721.11634 in numerical order under the undesignated center heading “Significant New Uses of Chemical Substances” to read as follows:” is corrected to read “In § 9.1, amend the table by adding entries for §§ 721.11659 through 721.11686 in numerical order under the undesignated center heading “Significant New Uses of Chemical Substances” to read as follows:”

Dated: June 6, 2023.
Mark Hartman,
Deputy Director, Office of Pollution Prevention and Toxics.

[FR Doc. 2023-12386 Filed 6-9-23; 8:45 am]

BILLING CODE 6560-50-P